DEPARTMENT OF DEFENSE

48 CFR Part 237

[DFARS Case 2004-D032]

Defense Federal Acquisition Regulation Supplement; Contractor Performance of Security-Guard Functions

AGENCY: Department of Defense (DoD).

ACTION: Final rule.

SUMMARY: DoD has issued a final rule amending the Defense Federal Acquisition Regulation Supplement (DFARS) to implement Section 324 of the National Defense Authorization Act for Fiscal Year 2005. Section 324 conditionally extends the expiration date of DoD's authority to enter into contracts for the performance of security-guard functions at military installations or facilities to meet the increased need for such functions since September 11, 2001.

DATES: Effective March 23, 2005.

FOR FURTHER INFORMATION CONTACT: Ms. Robin Schulze, Defense Acquisition Regulations Council, OUSD (AT&L) DPAP (DAR), IMD 3C132, 3062 Defense Pentagon, Washington, DC 20301-3062. Telephone (703) 602-0326; facsimile (703) 602-0350. Please cite DFARS Case 2004-D032.

SUPPLEMENTARY INFORMATION:

A. Background

This final rule amends DFARS 237.102-70 to implement Section 324 of the National Defense Authorization Act for Fiscal Year 2005 (Pub. L. 108-375). Section 324 amends Section 332 of Public Law 107-314 to extend DoD's authority to enter into contracts for security-guard functions at military installations or facilities, provided DoD submits a report to Congress by December 1, 2005, that addresses DoD's use of this authority and includes a plan for meeting security-guard requirements on a long-term basis in a manner consistent with applicable law.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2004-D032.

C. Paperwork Reduction Act

The Paperwork Reduction Act does not apply because the rule does not contain any information collection requirements that require the approval of the Office of Management and Budget under 44 U.S.C. 3501, et seq.

List of Subjects in 48 CFR Part 237

Government procurement.

Michele P. Peterson,
Editor, Defense Acquisition Regulations System.

Therefore, 48 CFR part 237 is amended as follows:

1. The authority citation for 48 CFR part 237 continues to read as follows:

Authority: 41 U.S.C. 421 and 48 CFR Chapter 1.

PART 237—SERVICE CONTRACTING

2. Section 237.102-70 is amended by revising paragraph (d)(3) to read as follows:

237.102-70 Prohibition on contracting for firefighting or security-guard functions.

* * * * *

(d) * * *

(3) Contract performance will not extend beyond December 1, 2005. Section 324 of Public Law 108-375 permits an extension of the period for contract performance through September 30, 2006, if DoD submits a report and plan to Congress on the use of this authority. See PGI 237.102-70(d)(3) for information on the reporting requirement.

[FR Doc. 05-5631 Filed 3-22-05; 8:45 am]

BILLING CODE 5001-08-P